DEPARTMENT OF STATE

[Public Notice Number 3278]

Notice of Meetings; International Telecommunication Advisory Committee (ITAC) and International Telecommunication Advisory Committee—Telecommunication Standardization Sector (ITAC-T)

The Department of State announces meetings of the U.S. International Telecommunication Advisory Committee (ITAC), and the U.S. International Telecommunication Advisory Committee—Telecommunication Standardization (ITAC-T) National Committee. The purpose of the Committees is to advise the Department on policy and technical issues with respect to the International Telecommunication Union and international telecommunication standardization. Except where noted, meetings will be held at the Department of State, 2201 C Street, NW., Washington, DC.

The ITAC will meet from 10 to noon on April 26, 2000, at the Department of State. The agenda consists of a debrief of the meeting of the working group on ITU reform and planning for preparations for the ITU Council meeting in July 2000.

The ITAC-T will meet from 9:30 to 4 on April 27, 2000, at the Telecommunication Industry Association offices on Wilson Boulevard, Arlington, VA, and May 17, 2000 (at a location to be determined). The agendas will both consist of development of recommendations for the ITU-T Study Programme for the next study period, positions on the alternative approval process, and other preparations for the June ITU Telecommunication Sector Advisory Group (TSAG) and the October World Telecommunication Sector Assembly (WTSA). We regret the short notice due to unanticipated schedule changes for the ITAC Chairman.

Members of the general public may attend these meetings. Entrance to the Department of State is controlled; people intending to attend any of the ITAC meetings should send a fax to (202) 647-7407 not later than 24 hours before the meeting. This fax should display the name of the meeting (ITAC T, or US Study Group A or D, and date of meeting), your name, social security number, date of birth, and organizational affiliation. One of the following valid photo identifications will be required for admission: US driver's license, passport, US Government identification card. Enter from the C Street Lobby; in view of escorting requirements, non-Government attendees should plan to arrive not less than 15 minutes before the meeting begins. Actual room assignments may be determined at the lobby or by calling the Secretariat at 202 647-0965/2592.

Attendees may join in the discussions, subject to the instructions of the Chair. Admission of members will be limited to seating available.

Dated: April 19, 2000.
Julian E. Minard,
Secretariat to the ITAC-T, Department of State.

[FR Doc. 00-10272 Filed 4-20-00; 2:33 pm]

BILLING CODE 4710-45-U